DEPARTMENT OF THE TREASURY

Agency Information Collection Activities; Submission for OMB Review; Comment Request; Multiple TTB Information Collection Requests.

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before August 30, 2019 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8142, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Alcohol and Tobacco Tax and Trade Bureau (TTB)

Title: Application for Extension of Time for Payment of Tax.

OMB Control Number: 1513-0093.

Type of Review: Extension without change of a currently approved collection.

Description: The Internal Revenue Code (IRC) at 26 U.S.C. 6161 authorizes the Secretary of the Treasury to grant taxpayers up to 6 months of additional time to pay taxes on any return required under the IRC. Under that authority, the Alcohol and Tobacco Tax and Trade Bureau (TTB) has issued form TTB F 5600.38, which taxpayers complete to apply for an extension of time to pay excise taxes collected by TTB. A taxpayer uses that form to identify themselves and the specific excise tax for which an extension of time for payment is requested, and to explain the reasons why the tax payment cannot be made on time. TTB uses the information collected on the form and in any attachments to evaluate the extension request, and it notifies the taxpayer of its decision regarding the extension request by returning a copy of the approved or disapproved form to the taxpayer.

Form: TTB F 5600 .38.

Affected Public: Businesses or other for profits.

Estimated Number of Respondents: 30.

Frequency of Response: On Occasion.

Estimated Total Number of Annual Responses: 30.

Estimated Time per Response: .25 hours per response.

Estimated Total Annual Burden Hours: 8

Title: Supporting Data for Nonbeverage Drawback Claims.

OMB Control Number: 1513-0098.

Type of Review: Revision of a currently approved collection.

Description: Under the Internal Revenue Code (IRC) at 26 U.S.C. 5111-5114 and 7652(g), persons using distilled spirits to produce medicines, medicinal preparations, food products, flavors, flavoring extracts, or perfume may claim drawback (refund) of all but $1.00 per proof gallon of the Federal excise tax paid on the distilled spirits used to make such nonbeverage products, subject to regulations prescribed by the Secretary of the Treasury. As required by the Alcohol and Tobacco Tax and Trade Bureau (TTB) regulations in 27 CFR parts 17 and 26, when submitting nonbeverage product drawback claims to TTB, respondents are required to report certain supporting data regarding the distilled spirits used and the products produced, using form TTB F 5154.2. Collection of this information is necessary to protect the revenue as it allows TTB to verify the validity of nonbeverage product drawback claims.

Form: TTB F 5154.2.

Affected Public: Businesses or other for profits.

Estimated Number of Respondents: 550.

Frequency of Response: On Occasion.

Estimated Total Number of Annual Responses: 3,300.

Estimated Time per Response: .97 hours per response.

Estimated Total Annual Burden Hours: 3,190.

Title: Form 4136—Credit for Federal Tax Paid on Fuels.

OMB Control Number: 1513-0106.

Type of Review: Extension without change of a currently approved collection.

Description: The Internal Revenue Code (IRC) at 26 U.S.C. 5741 requires all manufacturers and importers of tobacco products, processed tobacco, or cigarette papers and tubes, and all export warehouse proprietors to keep records as the Secretary of the Treasury prescribes by regulation, subject to government inspection during business hours. Under that authority, the Alcohol and Tobacco Tax and Trade Bureau (TTB) regulations in 27 CFR part 41 require importers of tobacco products or processed tobacco to maintain the usual and customary records kept during the normal course of business showing the receipt and disposition of imported tobacco products or processed tobacco. This information collection is necessary to protect the revenue, as it allows TTB to verify that the appropriate Federal excise taxes are paid on imported tobacco products and detect diversion of processed tobacco, which is not taxed, to taxable tobacco product manufacturing.

Form: None.

Affected Public: Businesses or other for-profits.

Estimated Number of Respondents: 480.

Frequency of Response: Annually.

Estimated Total Number of Annual Responses: 480.

Estimated Time per Response: 0 hours per response.

Estimated Total Annual Burden Hours: 0.

Authority: 44 U.S.C. 3501 et seq.

Dated: July 26, 2019.
Jennifer P. Quintana,
Treasury PRA Clearance Officer.

[FR Doc. 2019-16248 Filed 7-30-19; 8:45 am]

BILLING CODE 4810-31-P